NATIONAL SCIENCE FOUNDATION

Advisory Committee for Geosciences; Notice of Meeting

In accordance with the Federal Advisory Committee Act (Pub. L. 92-463, as amended), the National Science Foundation announces the following meeting:

Name: Advisory Committee for Geosciences (1755).

Dates: November 6-8, 2002.

Time:

10 a.m.-5:30 p.m. Wednesday, November 6, 2002.

8:30 a.m.-5:30 p.m. Thursday, November 7, 2002.

8:30 a.m.-3 p.m. Friday, November 8, 2002.

Place: National Science Foundation, Stafford II, 4121 Wilson Boulevard, Suite 555 Arlington, VA 22230.

Type of Meeting: Open.

Contact Person: Dr. Thomas Spence, Directorate for Geosciences, National Science Foundation, Suite 705, 4101 Wilson Boulevard, Arlington, Virginia 22230, Phone 703-292-8500.

Purpose of Meeting: To provide advice, recommendations, and oversight concerning support for research, education, and human resources development in the geosciences.

Agenda:

Day 1: Education and Diversity Subcommittee Meeting, Division Subcommittee Meetings.

Day 2: Directorate activities and plans, Cross-directorate programs.

Day 3: Communications and Information Exchange, Priority areas, GPRA.

Dated: October 15, 2002.
Susanne Bolton,
Committee Management Officer.

[FR Doc. 02-26982 Filed 10-22-02; 8:45 am]

BILLING CODE 7555-01-M